ENVIRONMENTAL PROTECTION AGENCY

[EPA-HQ-OPP-2022-0223; FRL-10431-01-OCSPP]

Product Cancellation Order for Certain Pesticide Registrations

AGENCY: Environmental Protection Agency (EPA).

ACTION: Notice.

SUMMARY: This document announces EPA's order for the cancellation, voluntarily requested by the registrant and accepted by the Agency, of the product listed in Table 1 of Unit II, pursuant to the Federal Insecticide, Fungicide, and Rodenticide Act (FIFRA). This cancellation order follows a May 6, 2022, Federal Register Notice of Receipt of Request from the registrant listed in Table 2 of Unit II, to voluntarily cancel this product registration. In the May 6, 2022, notice, EPA indicated that it would issue an order implementing the cancellation, unless the Agency received substantive comments within the 180-day comment period that would merit its further review of the request, or unless the registrant withdrew their request. The Agency received a comment on the May document, but none merited its further review of the request. Further, the registrant did not withdraw their request. Accordingly, EPA hereby issues in this document a cancellation order granting the requested cancellation. Any distribution, sale, or use of the product subject to this cancellation order is permitted only in accordance with the terms of this order, including any existing stocks provisions.

DATES: The cancellations are applicable March 29, 2023.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2022-0223, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This document announces the cancellation, as requested by the registrant, of a product registered under FIFRA section 3 (7 U.S.C. 136a). This registration is listed in sequence by registration number in Table 1 of this unit.

Table 1—Product Cancellations
Registration No. | Company No. | Product name | Active ingredients
432-1623 | 432 | Storcide II Grain, Bin and Warehouse Insecticide | Chlorpyrifos-methyl 21.6% & Deltamethrin 3.7%.

Table 2 of this unit includes the name and address of record for the registrant of the product in Table 1 of this unit, in sequence by EPA company number. This number corresponds to the first part of the EPA registration number of the product listed in Table 1 of this unit.

Table 2—Registrants of Cancelled Products
EPA Company No. | Company name and address
432 | Bayer Environmental Science A Division of Bayer CropScience, LP, 700 Chesterfield Parkway West, Chesterfield, MO 63017.

III. Summary of Public Comments Received and Agency Response to Comments

One anonymous comment was received agreeing with the cancellation of the pesticide product in this document. For this reason, the Agency does not believe that the comment submitted during the comment period merits further review or a denial of the request for voluntary cancellation.

IV. Cancellation Order

Pursuant to FIFRA section 6(f) (7 U.S.C. 136d(f)), EPA hereby approves the requested cancellation of the registration identified in Table 1 of Unit II. Accordingly, the Agency hereby orders that the product registration identified in Table 1 of Unit II, is canceled. The applicable date of the cancellation that is the subject of this document is March 29, 2023. Any distribution, sale, or use of existing stocks of the product identified in Table 1 of Unit II, in a manner inconsistent with any of the provisions for disposition of existing stocks set forth in Unit VI, will be a violation of FIFRA.

V. What is the Agency's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of May 6, 2022, (87 FR 27145) (FRL-9724-01). The comment period closed on November 2, 2022.

VI. Provisions for Disposition of Existing Stocks

Existing stocks are those stocks of registered pesticide products which are currently in the United States, and which were packaged, labeled, and released for shipment prior to the effective date of the cancellation action. The existing stocks provisions for the product subject to this order is as follows.

The registrant may continue to sell and distribute existing stocks of product listed in Table 1 of Unit II, until March 29, 2024, which is 1 year after the publication of the Cancellation Order in the Federal Register. Thereafter, the registrant is prohibited from selling or distributing the product listed in Table 1, except for export in accordance with FIFRA section 17 (7 U.S.C. 136o), or proper disposal. Persons other than the registrant may sell, distribute, or use existing stocks of product listed in Table 1 of Unit II, until existing stocks are exhausted, provided that such sale, distribution, or use is consistent with the terms of the previously approved labeling on, or that accompanied, the canceled product.

Authority: 7 U.S.C. 136 et seq.

Dated: March 22, 2023.
Daniel Rosenblatt,
Acting Director, Registration Division, Office of Pesticide Programs.

[FR Doc. 2023-06459 Filed 3-28-23; 8:45 am]

BILLING CODE 6560-50-P